DEPARTMENT OF ENERGY

Federal Energy Regulatory Commission

[Docket No. RP98-18-005]

Iroquois Gas Transmission System, L.P.; Notice of Proposed Changes in FERC Gas Tariff

November 6, 2000.

Take notice that on November 1, 2000, Iroquois Gas Transmission System, L.P. tendered for filing as part of its FERC Gas Tariff, First Revised Volume No. 1, Third Revised Sheet No. 6. Iroquois requests that the Commission approve the tariff sheet effective November 1, 2000.

Iroquois states that the revised tariff sheets reflect a negotiated rate between Iroquois and Duke Energy Trading and Marketing, LLC for transportation under Rate Schedule RTS beginning on November 1, 2000 through April 1, 2001.

Iroquois states that copies of its filing were served on all jurisdictional customers and interested state regulatory agencies and all parties to the proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28932 Filed 11-9-00; 8:45 am]

BILLING CODE 6717-01-M